DEPARTMENT OF HOMELAND SECURITY

Transportation Security Administration

Intent To Request Renewal From OMB of One Current Public Collection of Information: Pipeline Operator Security Information

AGENCY: Transportation Security Administration, DHS.

ACTION: 60-day Notice.

SUMMARY: The Transportation Security Administration (TSA) invites public comment on one currently approved Information Collection Request (ICR), Office of Management and Budget (OMB) control number 1652-0055, abstracted below that we will submit to OMB for a revision in compliance with the Paperwork Reduction Act (PRA). The ICR describes the nature of the information collection and its expected burden. Specifically, the collection involves the submission of data concerning pipeline security incidents.

DATES: Send your comments by March 21, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0055; Pipeline Operator Security Information. Under the Aviation and Transportation Security Act (ATSA) (Pub. L. 107-71, 115 Stat. 597 (November 19, 2001)) and delegated authority from the Secretary of Homeland Security, TSA has broad responsibility and authority for “security in all modes of transportation . . . including security responsibilities . . . over modes of transportation that are exercised by the Department of Transportation.” In executing its responsibility for modal security, TSA produced the Pipeline Security Guidelines in December 2010.

As the lead Federal agency for pipeline security, TSA desires to be notified of all incidents which are indicative of a deliberate attempt to disrupt pipeline operations or activities that could be precursors to such an attempt. The Pipeline Security Guidelines encourage pipeline operators to notify the Transportation Security Operations Center (TSOC) via phone at 866-615-5150 or email at TSOC.ST@dhs.gov as soon as possible if any of the following incidents occurs or if there is other reason to believe that a terrorist incident may be planned or may have occurred:

• Explosions or fires of a suspicious nature affecting pipeline systems, facilities, or assets.

• Actual or suspected attacks on pipeline systems, facilities, or assets.

• Bomb threats or weapons of mass destruction (WMD) threats to pipeline systems, facilities, or assets.

• Theft of pipeline company vehicles, uniforms, or employee credentials.

• Suspicious persons or vehicles around pipeline systems, facilities, assets, or right-of-way.

• Suspicious photography or possible surveillance of pipeline systems, facilities, or assets.

• Suspicious phone calls from people asking about the vulnerabilities or security practices of a pipeline system, facility, or asset operation.

• Suspicious individuals applying for security-sensitive positions in the pipeline company.

• Theft or loss of Sensitive Security Information (SSI) (detailed pipeline maps, security plans, etc.).

• Actual or suspected cyber-attacks that could impact pipeline Supervisory Control and Data Acquisition (SCADA) or enterprise associated IT systems.

When contacting the TSOC, the Guidelines request pipeline operators to provide as much of the following information as possible:

• Name and contact information (email address, telephone number).

• The time and location of the incident, as specifically as possible.

• A description of the incident or activity involved.

• Who has been notified and what actions have been taken.

• The names and/or descriptions of persons involved or suspicious parties and license plates as appropriate.

In addition to the reporting of security incident data to the TSOC, the Pipeline Security Guidelines previously included collecting information on recommendations for the voluntary submission of pipeline operator security manager contact information to TSA. TSA is revising the collection of information and will no longer collect the security manager contact information as that information is now available through data maintained by TSA; however, the agency will continue to collect information on the reporting of security incident data to TSOC.

TSA expects reporting of pipeline security incidents will occur on an irregular basis. TSA estimates that approximately 40 incidents will be reported annually, requiring a maximum of 30 minutes to collect, review, and submit event information. The potential burden to the public is estimated to be 20 hours. (40 incidents × 30 minutes = 20 hours)

Dated: January 14, 2016.
Christina A. Walsh
TSA Paperwork Reduction Act Officer, Office of Information Technology.

[FR Doc. 2016-01174 Filed 1-20-16; 8:45 am]

BILLING CODE 9110-05-P